ENVIRONMENTAL PROTECTION AGENCY

[Petition IV-2017-10; FRL-10001-39-Region 4]

Clean Air Act Operating Permit Program; Petition for Objection to State Operating Permit for Mill Creek Generating Station (Jefferson County, Kentucky)

AGENCY: Environmental Protection Agency (EPA).

ACTION: Notice of final order on petitions to object to state operating permits.

SUMMARY: The EPA Administrator signed an Order, dated October 3, 2019, denying the petition submitted by Sierra Club (Petitioner) objecting to a proposed Clean Air Act (CAA) title V operating permit issued to Mill Creek Generating Station (Mill Creek) located in Jefferson County, Kentucky. The Order responds to a June 2, 2017, petition requesting that the EPA object to the final operating permit number O-0127-16-V. This permitting action was issued by the Louisville Metro Air Pollution Control District (LMAPCD). The Order constitutes a final action on the petition addressed therein.

ADDRESSES: Copies of the Order, the petition, and all pertinent information relating thereto are on file at the following location: EPA Region 4; Air and Radiation Division; 61 Forsyth Street SW; Atlanta, Georgia 30303-8960. The Order is also available electronically at the following address: https://www.epa.gov/title-v-operating-permits/2019-order-denying-petition-object-title-v-operating-permit-mill-creek.

FOR FURTHER INFORMATION CONTACT: Art Hofmeister, Air Permits Section, EPA Region 4, at (404) 562-9115 or hofmeister.art@epa.gov.

SUPPLEMENTARY INFORMATION: The CAA affords the EPA a 45-day period to review and, as appropriate, the authority to object to operating permits proposed by state permitting authorities under title V of the CAA, 42 U.S.C. 7661-7661f. Section 505(b)(2) of the CAA and 40 CFR 70.8(d) authorize any person to petition the EPA Administrator to object to a title V operating permit within 60 days after the expiration of the EPA's 45-day review period if the EPA has not objected on its own initiative. Petitions must be based only on objections to the permit that were raised with reasonable specificity during the public comment period provided by the state, unless the petitioner demonstrates that it was impracticable to raise these issues during the comment period or the grounds for the issues arose after this period. Pursuant to sections 307(b) and 505(b)(2) of the CAA, a petition for judicial review of those parts of the Order that deny issues in the petition may be filed in the United States Court of Appeals for the appropriate circuit within 60 days from the date this notice is published in the Federal Register.

Petitioner submitted a petition requesting that the EPA object to the proposed CAA title V operating permit no. O-0127-16-V issued by LMAPCD to Mill Creek. Petitioner claims that this permitting action: Includes an impermissible long-term emission limit that is inadequate to protect the 1-hour sulfur dioxide National Ambient Air Quality Standards (NAAQS) and, even if it were permissible, the long-term limit is too high to protect the NAAQS.

On October 3, 2019, the Administrator issued an Order denying the petition. The Order explains the EPA's basis for denying the petition.

Dated: October 10, 2019.
Mary S. Walker,
Acting Regional Administrator, Region 4.

[FR Doc. 2019-23223 Filed 10-23-19; 8:45 am]

BILLING CODE 6560-50-P